DEPARTMENT OF LABOR

Occupational Safety and Health Administration

[Docket No. OSHA-2019-0009]

DEKRA Certification Inc.: Grant of Recognition and Modification to the NRTL Program's List of Appropriate Test Standards

AGENCY: Occupational Safety and Health Administration (OSHA), Labor.

ACTION: Notice.

SUMMARY: In this notice, OSHA announces the final decision to grant recognition to DEKRA Certification, Inc., as a Nationally Recognized Testing Laboratory (NRTL). Additionally, OSHA announces the final decision to add two additional test standards to the NRTL Program's List of Appropriate Test Standards.

DATES: Recognition as a NRTL becomes effective on September 22, 2020.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110; email: robinson.kevin@dol.gov.

SUPPLEMENTARY INFORMATION:

I. Background

Many of OSHA's workplace standards require that a NRTL test and certify certain types of equipment as safe for use in the workplace. NRTLs are independent laboratories that meet OSHA's requirements for performing safety testing and certification of products used in the workplace. To obtain and retain OSHA recognition, the NRTLs must meet the requirements in the NRTL Program regulations at 29 CFR 1910.7. More specifically, to be recognized by OSHA, an organization must: (1) Have the appropriate capability to test, evaluate, and approve products to assure their safe use in the workplace; (2) be completely independent of employers subject to the tested equipment requirements, and manufacturers and vendors of products for which OSHA requires certification; (3) have internal programs that ensure proper control of the testing and certification process; and (4) have effective reporting and complaint handling procedures. Recognition is an acknowledgement by OSHA that the NRTL has the capabilities to perform independent safety testing and certification of the specific products covered within the NRTL's scope of recognition and is not a delegation or grant of government authority. Recognition of a NRTL by OSHA also allows employers to use products certified by that NRTL to meet those OSHA standards that require product testing and certification.

The agency processes applications for initial recognition following requirements in Appendix A of 29 CFR 1910.7. This appendix requires OSHA to publish two notices in the Federal Register in processing an application. In the first notice, OSHA announces the application, provides the preliminary finding, and solicits comments on the preliminary findings. In the second notice, the agency provides the final decision on the application. These notices set forth the NRTL's scope of recognition.

II. Notice of Final Decision

OSHA hereby gives notice of the agency's decision to grant recognition to DEKRA Certification, Inc., (DEKRA) as a NRTL. According to the public information (see https://www.dekra-product-safety.com/en/about-dekra), DEKRA states that it is an internationally accredited testing laboratory. In the application, DEKRA lists the current address of the headquarters as: DEKRA Certification, Inc., 405 Glenn Drive, Suite 12, Sterling, Virginia 20164.

Each NRTL's scope of recognition has two elements: (1) The type of products the NRTL may test, with each type specified by the applicable test standard; and (2) the recognized site(s) that have the technical capability to perform the product-testing and product-certification activities for the applicable test standards within the NRTL's scope of recognition. DEKRA applied on December 8, 2016, for one recognized site (OSHA-2019-0009-0002). This application was amended on October 4, 2018, to add a new site as the company headquarters and requesting five supplemental programs within the scope of recognition (OSHA-2019-0009-0003). This application was amended again on October 8, 2019, to request thirty-four test standards be included within the scope of recognition. On October 1, 2019, OSHA published an update to the NRTL Program Policies, Procedures and Guidelines Directive, CPL-01-004, which eliminates supplemental programs from the NRTL Program. With this update, OSHA will no longer recognize NRTL applicants for supplemental programs. OSHA published the preliminary notice announcing DEKRA's application for recognition in the Federal Register on March 24, 2020 (85 FR 16673). The agency requested comments by April 23, 2020, but it received no comments in response to this notice. OSHA now is proceeding with this final notice to grant recognition to DEKRA as a NRTL.

To obtain or review copies of all public documents pertaining to DEKRA's application, go to www.regulations.gov or contact the Docket Office, Occupational Safety and Health Administration, U.S. Department of Labor, 200 Constitution Avenue NW, Room N-3647, Washington, DC 20210. Docket No. OSHA-2019-0009 contains all materials in the record concerning DEKRA's recognition.

III. Final Decision and Order

OSHA staff performed a detailed analysis of DEKRA's application packet and reviewed other pertinent information. OSHA staff also performed comprehensive on-site assessments of DEKRA's testing facilities, at DEKRA Arnhem, Netherlands on July 11-13, 2018, and DEKRA Sterling, Virginia on October 30, 2018. Based on the review of this evidence, OSHA finds that DEKRA meets the requirements of 29 CFR 1910.7 for recognition as a NRTL, subject to the limitations and conditions listed below. OSHA, therefore is proceeding with this final notice to grant recognition to DEKRA as a NRTL. The following sections set forth the scope of recognition included in DEKRA's grant of recognition.

A. Standards Requested for Recognition

OSHA limits DEKRA's scope of recognition to testing and certification of products for demonstration of conformance to the test standards listed in Table 1.

Table 1—Appropriate Test Standards for Inclusion in DEKRA's NRTL Scope of Recognition
Test standard | Test standard title
AAMI 60601-1 | Medical Electrical Equipment—Part 1: General Requirements for Basic Safety and Essential Performance.
UL 1012 | Standard for Power Units Other Than Class 2.
UL 1059 | Standard for Terminal Blocks.
UL 1203 | Standard for Explosion-Proof and Dust-Ignition-Proof Electrical Equipment for Use in Hazardous (Classified) Locations.
UL 121201 | Nonincendive Electrical Equipment for Use in Class I and II, Division 2 and Class III, Divisions 1 and 2 Hazardous (Classified) Locations.
UL 1310 | Standard for Class 2 Power Units.
UL 153 | Standard for Portable Electric Luminaires.
UL 1598 | Luminaires.
UL 1778 | Uninterruptible Power Systems.
UL 2157 | Electric Clothes Washing Machines and Extractors.
UL 50 | Enclosures for Electrical Equipment, Non-Environmental Considerations.
UL 508A | Standard for Industrial Control Panels.
UL 60065 | Standard for Audio, Video and Similar Electronic Apparatus—Safety Requirements.
UL 60079-0 | Standard for Explosive Atmospheres—Part 0: Equipment—General Requirements.
UL 60079-1 | Standard for Explosive Atmospheres—Part 1: Equipment Protection by Flameproof Enclosures “d”.
UL 60079-2 | Standard for Explosive Atmospheres—Part 2: Equipment Protection by Pressurized Enclosure `p'.
UL 60079-7 | Standard for Explosive Atmospheres—Part 7: Equipment Protection by Increased Safety `e'.
UL 60079-11 | Explosive Atmospheres—Part 11: Equipment Protection by Intrinsic Safety “i”.
UL 60079-15 | Explosive Atmospheres—Part 15: Equipment Protection by Type of Protection `n'.
UL 60079-18 | Standard for Explosive Atmospheres—Part 18: Equipment Protection by Encapsulation `m'.
UL 60079-26 | Standard for Explosive Atmospheres—Part 26: Equipment with Equipment Protection Level (EPL) Gas.
UL 60079-30-1 | Standard for Explosive Atmospheres—Part 30-1: Electrical Resistance Trace Heating—General and Testing Requirements.
UL 60079-31 | Explosive Atmospheres—Part 31: Equipment Dust Ignition Protection by Enclosure `t'.
UL 60730-1 | Automatic Electrical Controls—Part 1: General Requirements.
UL 60730-2-9 | Standard for Automatic Electrical Controls—Part 2-9: Particular Requirements for Temperature Sensing Controls.
UL 60950-1 | Information Technology Equipment—Safety—Part 1: General Requirements.
UL 60950-22 | Information Technology Equipment—Safety—Part 22: Equipment to be Installed Outdoors.
UL 61010-1 | Safety Requirements for Electrical Equipment for Measurement, Control and Laboratory Use—Part 1: General Requirements.
UL 61058-1 | Switches for Appliances—Part 1: General Requirement.
UL 62368-1 | Audio/video, Information and Communication Technology Equipment—Part 1: Safety Requirements.
UL 858 | Standard for Household Electric Ranges.
UL 858A | Safety-Related Solid-State Controls For Electric Ranges.
UL 8750 | Standard for Light Emitting Diode (LED) Equipment for Use in Lighting Products.
UL 913 | Standard for Intrinsically Safe Apparatus and Associated Apparatus for Use in Class I, II, III, Division 1, Hazardous (Classified) Locations.

B. Sites Requested for Recognition

OSHA limits DEKRA's scope of recognition to include the two sites listed below:

1. DEKRA Certification, Inc., 405 Glenn Drive, Suite 12, Sterling, Virginia 20164; and

2. DEKRA Certification B.V. Arnhem Meander 1051, 6825 MJ Arnhem, Gelderland, Netherlands.

OSHA's recognition of these sites limits DEKRA to performing product testing and certifications only to the test standards for which the site has the proper capability and programs, and for the test standards in DEKRA's scope of recognition. This limitation is consistent with the recognition that OSHA grants to other NRTLs that operate multiple sites.

C. Conditions

In addition to those conditions already required by 29 CFR 1910.7, DEKRA also must abide by the following conditions of the recognition:

1. DEKRA must inform OSHA as soon as possible, in writing, of any change of ownership, facilities, or key personnel, and of any major change in the operations as a NRTL, and provide details of the change(s);

2. DEKRA must meet all the terms of the recognition and comply with all OSHA policies pertaining to this recognition; and

3. DEKRA must continue to meet the requirements for recognition, including all previously published conditions on DEKRA's scope of recognition, in all areas for which it has recognition.

IV. Final Decision To Add New Test Standards to the NRTL Program's List of Appropriate Test Standards

In this notice, OSHA also announces the addition of two new test standards to the NRTL Program's List of Appropriate Test Standards. Table 2, below, lists the test standards that are new to the NRTL Program. OSHA has determined that these test standards are appropriate test standards and will include them in the NRTL Program's List of Appropriate Test Standards.

Table 2—Test Standards OSHA Is Proposing To Add to the NRTL Program's List of Appropriate Test Standards
Test standard | Test standard title
UL 60079-30-1 | Standard for Explosive Atmospheres—Part 30-1: Electrical Resistance Trace Heating—General and Testing Requirements.
UL 60730-1 | Automatic Electrical Controls—Part 1: General Requirements.

Pursuant to the authority in 29 CFR 1910.7, OSHA hereby grants recognition to DEKRA as a NRTL, subject to these limitations and conditions specified above.

V. Authority and Signature

Loren Sweatt, Principal Deputy Assistant Secretary of Labor for Occupational Safety and Health, authorized the preparation of this notice. Accordingly, the agency is issuing this notice pursuant to 29 U.S.C. 657(g)(2), Secretary of Labor's Order No. 1-2012 (77 FR 3912, Jan. 25, 2012), and 29 CFR 1910.7.

Signed at Washington, DC, on September 16, 2020.
Loren Sweatt,
Principal Deputy Assistant Secretary of Labor for Occupational Safety and Health.

[FR Doc. 2020-20877 Filed 9-21-20; 8:45 am]

BILLING CODE 4510-26-P